DEPARTMENT OF ENERGY

Federal Energy Regulatory Commission

[Project No., 14745-000]

Energy Resources USA, Inc.; Notice of Preliminary Permit Application Accepted for Filing and Soliciting Comments and Motions To Intervene

On December 22, 2015, Energy Resources USA, Inc. (Energy Resources) filed an application for a preliminary permit, pursuant to section 4(f) of the Federal Power Act (FPA), proposing to study the feasibility of the Rough River Lake Dam Hydroelectric Project (Rough River Project or project) to be located at the U.S. Army Corps of Engineers' Rough River Lake Dam on the Rough River in Breckinridge and Grayson Counties, Kentucky. The sole purpose of a preliminary permit, if issued, is to grant the permit holder priority to file a license application during the permit term. A preliminary permit does not authorize the permit holder to perform any land-disturbing activities or otherwise enter upon lands or waters owned by others without the owners' express permission.

The proposed project would consist of the following: (1) A control structure with three 9.5-foot-wide, 25-foot-long spill gates; (2) one 9.5-foot-diameter, 130-foot-long penstock with a butterfly valve; (3) a bifurcation structure; (4) two 6.5-foot-diameter, 32-foot-long penstocks; (5) a powerhouse containing two generating units with a total capacity of 10 megawatts; (6) a 1000-foot-long, 220-foot-wide tailrace; (7) a substation; and (8) a 0.3-mile-long, 69 kV transmission line. The proposed project would have an estimated average annual generation of 8,700 megawatt-hours, and operate as directed by the Corps.

Applicant Contact: Mr. Ander Gonzalez, Energy Resources USA Inc., 2655 Le Jeune Road, Suite 804, Coral Gables, Florida 33134; Phone: (954) 248-8425; E-mail: agonzalez@energyresources.es.

FERC Contact: Christiane Casey; phone: (202) 502-8577.

Deadline for filing comments and motions to intervene: 60 days from the issuance of this notice.

The Commission strongly encourages electronic filing. Please file comments and motions to intervene using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-14745-000.

More information about this project, including a copy of the application, can be viewed or printed on the “eLibrary” link of the Commission's Web site at http://www.ferc.gov/docs-filing/elibrary.asp. Enter the docket number (P-14745) in the docket number field to access the document. For assistance, contact FERC Online Support.

Dated: March 29, 2016.
Nathaniel J. Davis, Sr.,
Deputy Secretary.

[FR Doc. 2016-07528 Filed 4-1-16; 8:45 am]

BILLING CODE 6717-01-P